FEDERAL HOUSING FINANCE BOARD

[No. 2001-N-10]

Federal Home Loan Bank Members Selected for Community Support Review

AGENCY: Federal Housing Finance Board.

ACTION: Notice.

SUMMARY: The Federal Housing Finance Board (Finance Board) is announcing the Federal Home Loan Bank (Bank) members it has selected for the 2000-01 sixth quarter review cycle under the Finance Board's community support requirement regulation. This notice also prescribes the deadline by which Bank members selected for review must submit Community Support Statements to the Finance Board.

DATES: Bank members selected for the 2000-01 sixth quarter review cycle under the Finance Board's community support requirement regulation must submit completed Community Support Statements to the Finance Board on or before August 24, 2001.

ADDRESSES: Bank members selected for the 2000-01 sixth quarter review cycle under the Finance Board's community support requirement regulation must submit completed Community Support Statements to the Finance Board either by regular mail at the Office of Policy, Research and Analysis, Program Assistance Division, Federal Housing Finance Board, 1777 F Street, NW., Washington, DC 20006, or by electronic mail at fitzgeralde@fhfb.gov.

FOR FURTHER INFORMATION CONTACT: Emma J. Fitzgerald, Program Analyst, Office of Policy, Research and Analysis, Program Assistance Division, by telephone at 202/408-2874, by electronic mail at fitzgeralde@fhfb.gov, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 24, 2001 deadline prescribed in this notice. 12 CFR 944.2(b)(1)(ii) and (c). On or before July 27, 2001, each Bank will notify the members in its district that have been selected for the 2000-01 sixth quarter community support review cycle that they must complete and submit to the Finance Board by the deadline a Community Support Statement. 12 CFR 944.2(b)(2)(i). The member's Bank will provide a blank Community Support Statement Form, which also is available on the Finance Board's web site: www.fhfb.gov. Upon request, the member's Bank also will provide assistance in completing the Community Support Statement.

The Finance Board has selected the following members for the 2000-01 sixth quarter community support review cycle:

Federal Home Loan Bank of Boston—District 1

Connecticut

Charter Oak Federal Credit Union, Groton

Salisbury Bank & Trust Company, Lakeville

Hometown Bank, Moodus

Chelsea Groton Savings Bank, Norwich

Dime Savings Bank of Norwich, Norwich

Rockville Bank, Rockville

Thomaston Savings Bank, Thomaston

American Bank of Connecticut, Waterbury

North American Bank & Trust Company, Waterbury

Wilton Bank, Wilton

Maine

Kennebec Savings Bank, Augusta

Bath Savings Institution, Bath

Barco Federal Credit Union, Hampden

Androscoggin Savings Bank, Lewiston

Saco & Biddeford Savings Institution, Saco

Sanford Institution for Savings, Sanford

Massachusetts

Asian American Bank & Trust Company, Boston

The Community Bank, Brockton

Bay State Federal Savings Bank, Brookline

Chicopee Savings Bank, Chicopee

Weymouth Co-operative Bank, East Weymouth

Easthampton Savings Bank, Easthampton

Dukes County Savings Bank, Edgartown

Bank of Fall River, A Co-operative Bank, Fall River

Foxborough Savings Bank, Foxboro

MetroWest Bank, Framingham

Gloucester Bank & Trust Company, Gloucester

Gloucester Cooperative Bank, Gloucester

Hudson Savings Bank, Hudson

Lee Bank, Lee

Lenox Savings Bank, Lenox

Washington Savings Bank, Lowell

Community Credit Union of Lynn, Lynn

Eastern Bank, Lynn

National Grand Bank of Marblehead, Marblehead

Strata Bank, Medway

Nantucket Bank, Nantucket

Middlesex Savings Bank, Natick

First and Ocean National Bank, Newburyport

Newburyport Five Cents Savings Bank, Newburyport

North Easton Savings Bank, North Easton

Norwood Co-Operative Bank, Norwood

Seamen's Bank, Provincetown

Granite Savings Bank, Rockport

Rockport National Bank, Rockport

The Cooperative Bank, Roslindale

Bank of Western Massachusetts, Springfield

Randolph Savings Bank, Stoughton

The Savings Bank, Wakefield

Walpole Co-operative Bank, Walpole

Watertown Savings Bank, Watertown

Winchester Co-operative Bank, Winchester

Northern Bank & Trust Company, Woburn

New Hampshire

First Colebrook Bank, Colebrook

New Hampshire Federal Credit Union, Concord

Merrimack County Savings Bank, Concord

Laconia Savings Bank, Laconia

Mascoma Savings Bank, FSB, Lebanon

Southern New Hampshire Bank & Trust, Windham

Rhode Island

First Bank and Trust Company, Providence

Federal Home Loan Bank of New York—District 2

New Jersey

Bridge View Bank, Englewood Cliffs

Skylands Community Bank, Hackettstown

Haddon Savings Bank, Haddon Heights

Gibraltar Savings Bank, SLA, Newark

New Community Federal Credit Union, Newark

The Rahway Savings Institution, Rahway

Interchange Bank, Saddle Brook

Merrill Lynch Trust Company, FSB, Somerset

Minotola National Bank, Vineland

New York

Charter One Commercial, Albany

Albion Federal Savings & Loan Assn. Albion

Bath National Bank, Bath

Flatbush FS&LA of Brooklyn, Brooklyn

Manufacturers and Traders Trust Co., Buffalo

Trustco Savings Bank, Canajoharie

The Bank of Greene County, Catskill

Ontario National Bank, Clifton Springs

Bank, of Richmondville, Cobleskill

Champlain National Bank, Elizabethtown

Fairport Savings Bank, Fairport

Highland Falls FS&LA, Highland Falls

Steuben Trust Company, Hornell

Ulster Savings Bank, Kingston

Suffolk Federal Credit Union, Medford

Atlantic Bank of New York, New York

Habib American Bank, New York

Sterling National Bank, New York

Rome Savings Bank, Rome

Trustco Bank, N.A., Schenectady

Sleepy Hollow National Bank, Sleepy Hollow

Solvay Bank, Solvay

The Troy Savings Bank, Troy

European American Bank, Uniondale

Walden Savings Bank, Walden

Puerto Rico

Banco Popular de Puerto Rico, San Juan

Federal Home Loan Bank of Pittsburgh—District 3

Pennsylvania

Enterprise Bank, Allison Park

Apollo Trust Company, Apollo

Farmers and Merchants Trust Company, Chambersburg

Cambria County FS&LA Cresson

Premier Bank, Doylestown

Elderton State Bank, Elderton

East Penn Bank, Emmaus

PFC Bank, Ford City

First National Bank of Fredericksburg, Fredericksburg

PeoplesBank, a Codurus Valley Company, Glen Rock

Gratz National Bank, Gratz

Harleysville NB & Trust Company, Harleysville

Harris Savings Bank, Harrisburg

Irwin Bank and Trust Company, Irwin

Jersey Shore State Bank, Jersey Shore

The Farmers National Bank of Kittanning, Kittanning

Bank, of Landisburg, Landisburg

First National Bank of Liverpool, Liverpool

Mars National Bank, Mars

Fulton County NB & Trust, Company, McConnellsburg

Union National Bank, of Mount Carmel, Mount Carmel

Nazareth NB and Trust Company, Nazareth

The New Tripoli National Bank, New Tripoli

The National Bank of North East, North East

St. Edmond's Federal Savings Bank, Philadelphia

Police and Fire Federal Credit Union, Philadelphia

Reliance Standard Life Insurance Company, Philadelphia

Phoenixville FS&LA, Phoenixville

Portage National Bank, Portage

Security National Bank, Pottstown

LA Bank, N.A., Scranton

Sun Bank, Selinsgrove

Guaranty Bank, N.A., Shamokin

Orrstown Bank, Shippensburg

West Virginia

Progressive Bank, N.A.—Buckhannon, Buckhannon

First Exchange Bank, Mannington

One Valley Bank, North, Inc., Moundsville

F&M Bank—West Virginia, Inc., Ranson

First National Bank of Romney, Romney

AmeriBank, Welch

Federal Home Loan Bank of Atlanta—District 4

Alabama

AuburnBank, Auburn

First Commercial Bank of Huntsville, Huntsville

Peachtree Bank, Maplesville

North Jackson Bank, Stevenson

Florida

First Bradenton Bank, Bradenton

Riverside National Bank, Fort Pierce

The Bank of Brevard, Melbourne

PineBank, Miami

First National Bank of Florida, Milton

Palm Beach NB and Trust Company, Palm Beach

SOUTHBANK, Palm Beach Gardens

Tarpon Coast National Bank, Port Charlotte

Citizens FSB of Port St. Joe, Port St. Joe

First Commercial Bank of Tampa, Tampa

The Bank of Tampa, Tampa

Indian River National Bank, Vero Beach

Georgia

First National Bank of South Georgia, NA, Albany

First American Bank and Trust, Athens

Cornerstone Bank, Atlanta

Appalachian Community Bank, Blairsville

The Fannin County Bank, N.A., Blue Ridge

First National Bank of Grady County, Cairo

Main Street Bank, Covington

First State Bank of Randolph County, Cuthbert

Georgia First Bank, Gainesville

The Glennville Bank and Trust Company, Glennville

Farmers and Merchants Bank, Lakeland

Security Bank of Bibb County, Macon

Southwest Georgia Bank, Moultrie

Carver State Bank, Savannah

The First State Bank, Stockbridge

Bank of Upson, Thomaston

Thomasville National Bank, Thomasville

Maryland

Farmers Bank of Maryland, Annapolis

Kopernik Federal Savings Association, Baltimore

Liberty Federal Savings & Loan Assn., Baltimore

Slavie Federal Savings Bank, Baltimore

Chesapeake Bank and Turst Company, Chestertown

The Chestertown Bank of Maryland, Chestertown

Hagerstown Trust Company, Hagerstown

Lafayette Federal Credit Union, Kensington

First United Bank and Trust, Oakland

The National Bank of Rising Sun, Rising Sun

Farmers and Mechanics NB, Taneytown

North Carolina

Bank, of Stanly, Albemarle

Home Savings Bank of Albemarle, SSB, Albemarle

Self-Help Credit Union, Durham

Gibsonville Community Savings Bank, Gibsonville

Farmers & Merchants Bank, Granite Quarry

Carolina Community Bank, Murphy

Citizens Savings Bank of Salisbury, SSB, Salisbury

First National Bank of Shelby, Shelby

Farmers and Merchants Bank, Holly Hill

Virginia

E-Trade Bank, Arlington

American National Bank and Trust Co., Danville

The Bank of Fincastle, Fincastle

Marshall National Bank and Trust Co., Marshall

The Middleburg Bank, Middleburg

First Sentinel Bank, Richlands

First Bank, Strasburg

F&M Bank—Peoples, Warrenton

Northern Neck State Bank, Warsaw

Federal Home Loan Bank of Cincinnati—District 5

Kentucky

Bedford Loan and Deposit Bank, Bedford

Berea National Bank, Berea

South Central Bank of Bowling Green, Inc., Bowling Green

Meade County Bank, Brandenburg

Campbellsville National Bank, Campbellsville

Edmonton State Bank, Edmonton

Bank of Germantown, Germantown

First Security Bank and Trust, McLean, Island

Lawrenceburg National Bank, Lawrenceburg

Farmers National Bank, Lebanon

Square D Employees' Federal Credit Union, Lexington

Fifth Third Bank of Kentucky, Inc., Louisville

Citizens National Bank, Russellville

Bullitt County Bank, Shepardsville

Bank of McCreary County, Whitley City

Williamsburg National Bank, Williamsburg

Ohio

First National Bank of Ohio (FirstMerit), Akron

Bellevue Federal Credit Union, Bellevue

Bethel Building and Loan Company, Bethel

The Equitable Savings and Loan Company, Cadiz

CinFed Employees Federal Credit Union, Cincinnati

Lenox Savings Bank, Cincinnati

Mt. Washington Savings & Loan Company, Cincinnati

Shore Bank and Trust Company, Cleveland

Community First Bank, N.A., Forest

First Ohio Credit Union, Inc., Fostoria

Galion Building and Loan Association, Galion

Greenville National Bank, Greenville

Second National Bank, Greenville

First FS&LA of Lorain, Lorain

New Richmond National Bank, New Richmond

Citizens National Bank of Norwalk, Norwalk

Ripley National Bank, Ripley

Ripley Federal Savings and Loan Assn., Ripley

The First National Bank of Shelby, Shelby

Strasburg Savings and Loan, Strasburg

Toledo Area Catholic Credit Union, Sylvania

Peoples Savings Bank, Urbana

First Federal Savings and Loan Association, Van Wert

Second National Bank of Warren, Warren

Perpetual Savings Bank, Wellsville

First Federal Savings Bank, Zanesville

Tennessee

Citizens National Bank, Athens

Bank of Putnam County, Cookeville

Farmers Bank, Cornersville

First Federal Savings Bank, Dickson

Carter County Bank, Elizabethton

Jackson Bank and Trust, Gainesboro

Gates Banking and Trust Company, Gates

Tennessee State Bank, Gatlinburg

Bank of Gleason, Gleason

Greene County Bank, Greeneville

Bank of Halls, Halls

Commercial Bank, Harrogate

Union Bank, Jamestown

Bank of Tennessee, Kingsport

First Bank, Lexington

Enterprise National Bank, Memphis

The Bank of Milan, Milan

Cavalry Banking, Murfreesboro

Rutherford Bank and Trust, Murfreesboro

Commercial Bank and Trust Company, Paris

Farmers Bank, Portland

Central Bank, Savannah

First Community Bank, Shelbyville

Farmers and Merchants Bank, Trezevant

American City Bank of Tullahoma, Tullahoma

Reelfoot Bank, Union City

Federal Home Loan Bank of Indianapolis—District 6

Indiana

First National Bank, Cloverdale

CSB State Bank, Cynthiana

Blue River Federal Savings Bank, Edinburgh

Bright National Bank, Flora

Three Rivers Federal Credit Union, Fort Wayne

Grabill Bank, Grabill

Fifth Third Bank of Central Indiana, Indianapolis

Landmark Savings Bank, F.S.B., Indianapolis

Meridian Security Insurance Company, Indianapolis

Union Federal SB of Indianapolis, Indianapolis

Heritage Bank, Jeffersonville

Lafayette Savings Bank, F.S.B., Lafayette

Peoples Savings & Loan Association, Monticello

New Washington State Bank, New Washington

First Citizens State Bank, Newport

Citizens State Bank of Petersburg, Petersburg

American Trust & SB of Whiting, Whiting

Michigan

Firstbank Alma, Alma

Signature Bank, Bad Axe

Lake Osceola State Bank, Baldwin

Central State Bank, Beulah

Community Bank, Caro

Eastern Michigan Bank, Croswell

Alpha-Crystal Falls, Crystal Falls

State Bank of Ewen, Ewen

Oakland Commerce Bank, Farmington Hills

Credit Union One, Ferndale

Grand Bank, Grand Rapids

LSI Credit Union, Grand Rapids

National Bank of Hastings, Hastings

Valley Ridge Bank, Kent City

Co-op Services Credit Union, Livonia

Firstbank, Mount Pleasant

First National Bank of Norway, Norway

Sterling Bank and Trust, FSB, Southfield

First Resource Federal Credit Union, St. Joseph

Federal Home Loan Bank of Chicago—District 7

Illinois

National Bank of Commerce, Berkeley

Prairie Bank and Trust Company, Bridgeview

Cerro Gordo Building and Loan, s.b., Cerro Gordo

Marquette National Bank, Chicago

Shore Bank, Chicago

The First Commercial Bank, Chicago

Resource Bank, N.A., DeKalb

Du Quoin State Bank, Du Quoin

Crossroads Bank, Effingham

Midwest Bank and Trust Company, Elmwood Park

The Fisher National Bank, Fisher

Midwest Bank of Freeport, Freeport

Midwest Bank, Hinsdale

Jacksonville Savings Bank, Jacksonville

Commonwealth Credit Union, Kankakee

Kankakee Federal Savings Bank, Kankakee

Union Federal Savings and Loan Assn., Kewanee

Citizens State Bank, Lena

Brickyard Bank, Lincolnwood

Citizens National Bank, Macomb

First Suburban National Bank, Maywood

Community National Bank, Metropolis

Morris Building and Loan, s.b., Morris

Marquette Bank Morrison, Morrison

First National Bank of Nokomis, Nokomis

Nokomis Savings Bank, Nokomis

Orangeville Community Bank, Orangeville

First National Bank of Pana, Pana

Vermillion Valley Bank, Piper City

First State Bank of Red Bud, Red Bud

Capaha Bank, Tamms

AmeriMark Bank, Villa Park

North Shore Trust and Savings, Waukegan

Waukegan Savings & Loan Association, Waukegan

Prospect Federal Savings Bank, Worth

First National Bank of Xenia, Xenia

Wisconsin

American Fox Cities, Appleton

State Bank of Arcadia, Arcadia

First National Bank of Barron, Barron

Blackhawk State Bank, Beloit

First National Bank of Berlin, Berlin

Badger State Bank, Cassville

State Bank of Chilton, Chilton

American Bank, Eau Claire

American Bank, Fond du Lac

Franklin State Bank, Franklin

Peoples National Bank, Hayward

Horicon State Bank, Horicon

Farmers State Bank, Markesan

Mid-Wisconsin Bank, Medford

Lincoln State Bank, Milwaukee

Mitchell Bank, Milwaukee

Bank of Monticello, Monticello

The Bank of New Glarus, New Glarus

The First NB of New Richmond, New Richmond

RiverBank, Osceola

Bank of Poynette, Poynette

Johnson Bank, Racine

Shell Lake State Bank, Shell Lake

Eagle Valley Bank, St. Croix Falls

Acuity Bank, SSB, Tomah

The Equitable Bank, S.S.B., Wauwatosa

ALLCO Credit Union, West Allis

Fortress Bank of Westby, Westby

Westby Co-op Credit Union, Westby

Federal Home Loan Bank of Des Moines—District 8

Iowa

Ackley State Bank, Ackley

Exchange State Bank, Adair

First State Bank, Belmond

Freedom Security Bank, Coralville

Iowa State Savings Bank, Creston

Decorah Bank and Trust Company, Decorah

AmerUS Life Insurance Company, Des Moines

Wells Fargo Bank Iowa, NA, Des Moines

Dupaco Community Credit Union, Dubuque

The Grundy NB of Grundy Center, Grundy Center

Hartwick State Bank, Hartwick

Hiawatha Bank and Trust Company, Hiawatha

Community State Bank, Indianaola

Green Belt Bank and Trust, Iowa Falls

First National Bank in LeMars, Le Mars

Western Bank & Trust, Moville

First National Bank of Muscatine, Muscatine

Security State Bank, New Hampton

Oakland State Bank, Oakland

Citizens State Bank, Oakland

Perry State Bank, Perry

First National Bank of Sioux Center, Sioux Center

The Security National Bank of Sioux City, Sioux City

Heartland Bank, Somers

Farmers Trust & Savings Bank, Spencer

State Bank, Spencer

First Bank & Trust, Spirit Lake

Citizens First National Bank, Storm Lake

West Chester Savings Bank, Washington

Community National Bank, Waterloo

First National Bank, Waverly

Peoples Savings Bank, Wellsburg

Farm Bureau Life Insurance Company, West Des Moines

Farm Bureau Mutual Insurance Company, West Des Moines

Farmers Savings Bank, Wever

State Bank, Worthington

Minnesota

Atwater State Bank, Atwater

First National Bank of Brewster, Brewster

City-County Federal Credit Union, Brooklyn Center

Peoples Bank of Commerce, Cambridge

First National Bank Chisholm, Chisholm

Clinton State Bank, Clinton

Eitzen State Bank, Eitzen

The County Bank, Forest Lake

Citizens State Bank of Glenville, Glenville

Marquette Bank N.A., Golden Valley

First Security Bank—Hendricks, Hendricks

First National Bank of Henning, Henning

Jackson Federal Savings and Loan Assn., Jackson

Janesville State Bank, Janesville

Citizens State Bank of Kelliher, Kelliher

Security State Bank, of Kenyon, Kenyon

First Security Bank—Lake Benton, Lake Benton

State Bank of Long Lake, Long Lake

Lake Country State Bank, Long Prairie

United Prairie Bank, Madison

Bank of Maple Plain, Maple Plain

Superior Guaranty Insurance Company, Minneapolis

First National Bank in Montevideo, Montevideo

Mountain Iron First State Bank, Mountain Iron

State Bank and Trust Co. of New Ulm, New Ulm

Citizens Bank of New Ulm, New Ulm

Community National Bank, Northfield

Minnwest Bank Ortonville, Ortonville

Pine River State Bank, Pine River

Border State Bank, Roseau

First Security Bank—Sanborn, Sanborn

Americana Community Bank, Sleepy Eye

Western Bank, St. Paul

Vermillion State Bank, Vermillion

Northern State Bank of Virginia, Virginia

First State Bank of Wabasha, Wabasha

Heritage Bank N.A., Willmar

Merchants National Bank of Winona, Winona

First State Bank of Wyoming, Wyoming

Bank of Zumbrota, Zumbrota

Missouri

Jefferson Heritage Bank, Ballwin

Boone County National Bank, Columbia

Tri-County State Bank, El Dorado Springs

Commercial Trust Company, Fayette

Home Exchange Bank of Jamesport, Jamesport

Jefferson Bank of Missouri, Jefferson City

Community America Credit Union, Kansas City

Central Bank of Kansas City, Kansas City

Kearney Trust Company, Kearney

Lawson Bank, Lawson

United State Bank, Lewistown

First State Bank, Poplar Bluff

First State Bank of Purdy, Purdy

The Seymour Bank, Seymour

State Bank of Slater, Slater

Citizens Bank of Sparta, Sparta

Metropolitan National Bank, Springfield

Heritage Bank of St. Joseph, St. Joseph

Southwest Bank of St. Louis, St. Louis

Webb City Bank, Webb City

North Dakota

Security State Bank of Edgeley, Edgeley

Bremer Bank, N.A., Grand Forks

Community National Bank of Grand Forks, Grand Forks

Stutsman County State Bank, Jamestown

Northland Financial, Steele

Peoples State Bank, Westhope

Security State Bank, Wishek

South Dakota

Dakota State Bank, Blunt

Security Bank, Madison

BankWest, Inc., Pierre

American Memorial Life Insurance Co., Rapid City

First National Bank of White, White

First Dakota National Bank, Yankton

Federal Home Loan Bank of Dallas—District 9

Arizona

American Founders Life Insurance Co., Phoenix

Arkansas

Bank of Cave City, Cave City

First National Bank of Crossett, Crossett

Simmons First National Bank of Dumas, Dumas

National Bank of Commerce, El Dorado

Bank of Arkansas, Fayetteville

Greers Ferry Lake State Bank, Heber Springs

First National Bank of Phillips County, Helena

Little River Bank, Lepanta

Malvern National Bank, Malvern

Citizens National Bank, Nashville

Merchants and Planters Bank, Newport

American State Bank, Osceola

Bank of Pocahontas, Pocahontas

The Farmers & Merchants Bank, Prairie Grove

Arvest Bank, Rogers

Commercial National Bank of Texarkana, Texarkana

Louisiana

The Cottonport Bank, Cottonport

Kaplan State Bank, Kaplan

Sabine State Bank and Trust Company, Many

Exchange Bank and Trust Company, Natchitoches

Liberty Bank and Trust Company, New Orleans

American Bank of Ruston, N.A., Ruston

Sicily Island State Bank, Sicily Island

St. Martin Bank and Trust Company, St. Martinville

Concordia Bank and Trust Company, Vidalia

The Evangeline Bank and Trust Company, Ville Platte

Progressive State Bank and Trust Company, Winnsboro

Mississippi

First Security Bank, Batesville

Peoples Bank of Franklin County, Bude

Bank of the South, Crystal Springs

Commercial Bank of DeKalb, DeKalb

Community Bank, Ellisville

Community Bank of Mississippi, Forest

Community Bank, Indianola

Century Bank, Lucedale

Great Southern National Bank, Meridian

Newton County Bank, Newton

First National Bank of Oxford, Oxford

The Citizens Bank of Philadelphia, Philadelphia

Peoples Bank and Trust Company, Tupelo

New Mexico

Bank of Belen, Belen

Carlsbad National Bank, Carlsbad

Community Bank, Espanola, Espanola

Western Bank of Lordsburg, Lordsburg

Centinel Bank of Taos, Taos

Peoples Bank, Taos

Texas

First Community Bank, N.A., Alice

Amarillo National Bank, Amarillo

First National Bank of Bastrop, Bastrop

Citizens State Bank, Buffalo

National Bank of Daingerfield, Daingerfield

First National Bank, Edinburg

First National Bank, Fabens

First National Bank, Fairfield

Town North National Bank, Farmers Branch

First National Bank in Graham, Graham

First State Bank, Granger, Granger

First Community Credit Union, Houston

First National Bank of Huntsville, Huntsville

Community Bank, Kirbyville

The Laredo National Bank, Laredo

First State Bank of Livingston, Livingston

First National Bank of Livingston, Livingston

Franklin National Bank, Mount Vernon

First State Bank, Smithville

Texline State Bank, Texline

Randolph-Brooks Federal Credit Union, Universal City

American Bank, N.A., Waco

Union Square Federal Credit Union, Wichita Falls

Federal Home Loan Bank of Topeka—District 10

Colorado

FirstBank of Arvada, N.A., Arvada

FirstBank of Aurora, N.A., Aurora

FirstBank of Douglas County, N.A., Castle Rock

Mountain Bell Credit Union, Colorado Springs

Western National Bank of Colorado, Colorado Springs

Community Bank, Dove Creek

FirstBank of Lakewood, N.A., Lakewood

First Bank of Littleton, N.A., Littleton

Olathe State Bank, Olathe

FirstBank of Silverthorne, N.A., Silverthorne

First National Bank of Strasburg, Strasburg

First National Bank, Telluride, Telluride

WestStar Bank, Vail

FirstBank of Wheat Ridge, N.A., Wheat Ridge

First National Bank of Yuma, Yuma

Kansas

First State Bank of Burlingame, Burlingame

Emporia State Bank and Trust Company, Emporia

Home State Bank, Erie

Union State Bank of Everest, Everest

Emprise Bank, N.A., Hillsboro

The Farmers State Bank, Holton

First Community Bank, Kansas City

Guaranty Bank and Trust, Kansas City

First National Bank & Trust Co. in Larned, Larned

Gold Bank, Leawood

The Bank, Oberlin

First National Bank of Onaga, Onaga

First State Bank and Trust, Tonganoxie

Capital City Bank, Topeka

Commerce Bank and Trust, Topeka

Security Benefit Life Insurance Company, Topeka

Wellsville Bank, Wellsville

Boeing Wichita Employees Credit Union, Wichita

Nebraska

First National Beatrice Bank &Trust Co., Beatrice

Exchange Bank, Gibbon

First State Bank, Gothenburg

Bank of Nebraska, La Vista

West Gate Bank, Lincoln

Home State Bank, Louisville

Bank of Mead, Mead

Farmers and Merchants Bank, Milford

Wells Fargo Bank Nebraska, Omaha

First State Bank, Scottsbluff

The Cattle National Bank, Seward

The First National Bank of Unadilla, Unadilla

First National Bank of Valentine, Valentine

CharterWest National Bank, West Point

Winside State Bank, Winside

Oklahoma

AmeriState Bank, Atoka

WestStar Bank, Bartlesville

First National Bank of Chelsea, Chelsea

Alfalfa County Bank, Cherokee

First National Bank, Edmond

Grand Federal Savings Bank, Grove

American Fidelity Assurance Company, Oklahoma City

Bank One, Oklahoma City

Weokie Credit Union, Oklahoma City

Arvest Bank, Shawnee

First National Bank and Trust Company, Weatherford

First National Bank in Wewoka, Wewoka

Federal Home Loan Bank of San Francisco—District 11

California

Western Sierra National Bank, Cameron Park

First Coastal Bank, N.A., El Segunda

Farmers & Merchants Bk—Central CA, Lodi

Southern Pacific Bank, Los Angeles

County Bank, Merced

Omni Bank, N.A., Monterey Park

CivicBank of Commerce, Oakland

Bay Area Bank, Redwood City

Central Sierra Bank, San Andreas

Santel Federal Credit Union, San Diego

Sequoia National Bank, San Francisco

Santa Barbara Bank and Trust, Santa Barbara

Coast Commercial Bank,Santa Cruz

Del Amo Savings Bank, FSB, Torrance

Nevada

Silver State Bank, Henderson

Federal Home Loan Bank of Seattle—District 12

Hawaii

Honolulu City & County Employees FCU, Honolulu

Montana

Valley Bank of Belgrade, Belgrade

Rocky Mountain Bank, Billings

Blackfeet National Bank, Browning

Mountain West Bank, N.A., Helena

Three Rivers Bank of Montana, Kalispell

Bitterroot Valley Bank, Lolo

Missoula Federal Credit Union, Missoula

Glacier Bank of Whitefish, Whitefish

Western Bank of Wolf Point, Wolf Point

Oregon

Rogue Federal Credit Union, Medford

Utah

First National Bank of Layton, Layton

Capital Community Bank, Orem

Deseret First Credit Union, Salt Lake City

Washington

Anchor Mutual Savings Bank, Aberdeen

The Bank of the Pacific, Aberdeen

Bank NorthWest, Bellingham

Whatcom Educational Credit Union, Bellingham

Security State Bank, Centralia

North Cascades National Bank, Chelan

Bank of Whitman, Colfax

Islanders Bank, Friday Harbor

Community First Bank, Kennewick

Bank of Latah, Latah

Washington Credit Union, Mountlake Terrace

Credit Union of the Pacific, Seattle

Fremont First National Bank, Seattle

Yakima National Bank, Yakima

Yakima Valley Credit Union, Yakima

Wyoming

First National Bank of Wyoming, Laramie

Bank of Lovell, Lovell

Rawlins National Bank, Rawlins

First State Bank of Thermopolis, Thermopolis

First State Bank, Wheatland

II. Public Comments

To encourage the submission of public comments on the community support performance of Bank members, on or before July 27, 2001, each Bank will notify its Advisory Council and nonprofit housing developers, community groups, and other interested parties in its district of the members selected for community support review in the 2000-01 sixth quarter review cycle. 12 CFR 944.2(b)(2)(ii). In reviewing a member for community support compliance, the Finance Board will consider any public comments it has received concerning the member. 12 CFR 944.2(d). To ensure consideration by the Finance Board, comments concerning the community support performance of members selected for the 2000-01 sixth quarter review cycle must be delivered to the Finance Board on or before the August 24, 2001 deadline for submission of Community Support Statements.

Dated: July 6, 2001.
By the Federal Housing Finance Board.
James L. Bothwell,
Managing Director.

[FR Doc. 01-17416 Filed 7-12-01; 8:45 am]

BILLING CODE 6725-01-P